ENVIRONMENTAL PROTECTION AGENCY

[FRL-6858-4]

Solicitation Notice for National Performance Track Program

AGENCY: Environmental Protection Agency (EPA).

ACTION: Solicitation notice.

SUMMARY: This document solicits cooperative agreement proposals from state environmental agencies to support the on-going work of states and establishment of programs to recognize facilities whose environmental performance exceeds minimal compliance. The Environmental Protection Agency (EPA) is prepared to assist state programs that assess and monitor the performance of facilities within the individual state. Where states have an existing program, this cooperative agreement will serve as a vehicle to enhance those programs. Where states have no existing program but plan to develop one this cooperative agreement will serve as seed money for program development. In particular, EPA seeks to support state efforts to: evaluate the impact of the national program on State policies, rules, and regulations; evaluate program implementation and effectiveness; and analyze and disseminate performance data.

DATES: Original proposals and one copy must be mailed to EPA and postmarked no later than September 11, 2000. EPA expects to announce the awards by October 1, 2000.

ADDRESSES: An original and one copy of the proposal should be mailed to EPA headquarters in Washington, DC at the following address: Julie C. Taitt, Administration and Budget Management Team, U.S. EPA, Office of Policy, Economics, and Innovation, 1200 Pennsylvania Avenue, N.W. (MC 1803), Washington, DC 20460; telephone (202) 260-9230.

FOR FURTHER INFORMATION CONTACT: For technical assistance in preparation of your proposals, please contact Dan Fiorino at (202) 260-2749, Chuck Kent at (202) 260-2462 or Ken Munis at (202) 260-9560. For administrative assistance in preparation of your proposals, please contact Julie Taitt at (202) 260-9230.

Environmental Protection Agency

Solicitation Notice: National Performance Track Program

Contents

Section I Background

Section II Eligible Applicants and Activities

Section III Funding

Section IV Requirements for Proposals

Section V Evaluation and Award Criteria

Section VI Proposals

Section VII Recipient Responsibilities

Section VIII Other Information

Section IX How To Apply

Section X Program Contacts

Section I—Background

A. Background

This document solicits cooperative agreement proposals from state environmental agencies to support the on-going work of states and establishment of programs to recognize facilities whose environmental performance exceeds minimal compliance. The Environmental Protection Agency (EPA) is prepared to assist state programs that assess and monitor the performance of facilities within the individual state. Where states have an existing program, this cooperative agreement will serve as a vehicle to enhance those programs. Where states have no existing program but plan to develop one this cooperative agreement will serve as seed money for program development. In particular, EPA seeks to support state efforts to: (1) evaluate the impact of the national program on State policies, rules, and regulations, (2) evaluate program implementation and effectiveness; and (3) analyze and disseminate performance data.

This solicitation notice contains all the information necessary to prepare a proposal. EPA Administrator, Carol Browner announced this program on June 26, 2000. The Environmental Protection Agency is offering financial support for state programs which recognize and encourage facilities that achieve better environmental performance than is required under existing regulations. EPA operates a National Performance Track Program at the Federal level as well. Because EPA expects to be “substantially involved” in the activities receiving financial assistance under this Notice of Funding Availability, the Agency has determined that a cooperative agreement is the appropriate funding instrument. EPA anticipates funding of approximately $700,000 for this program, subject to appropriations and the availability of funds. These cooperative agreements require no matching funds.

B. Environmental Performance Track Program

EPA's National Environmental Performance Track program is designed to recognize and encourage top environmental performers—these who go beyond compliance with regulatory requirements to attain levels of environmental performance and management that benefit people, communities, and the environment—at the Federal level. The Agency is offering financial assistance to states to help carry out similar efforts at the state level by our “co-regulator” colleagues.

Our system of environmental protection continues to evolve. There is a growing recognition that government should complement existing programs with new tools and strategies that not only protect people and the environment, but also capture opportunities for reducing costs and spurring technological innovation.

Over the last several years, EPA has joined states, businesses, and community and environmental groups in experimenting with new approaches that achieve high levels of environmental protection with greater efficiency. Likewise, many states have developed innovative programs for improving environmental performance.

This Notice of Funds Availability builds upon the lessons EPA has learned from several state leadership programs and from its own efforts. We have learned that innovations in environmental management can be used to create strategic business opportunities and advantages while maximizing the health and productivity of our ecosystems and communities. We have learned the importance of keeping innovation programs simple and their transaction costs low. We know that we must focus on performance, not just the means of achieving it, and derive measurable results.

EPA's National Environmental Performance Track program will recognize innovation, motivate others to improve, and complement existing regulatory activities. It also emphasized the importance of effective state/EPA partnerships and the need to inform and involve citizens and communities. Throughout the development of its National Environmental Performance Track program, EPA has consulted closely with state officials, including a national forum to discuss state programs, issues, and participation. These consultations indicated that states could make effective use of relatively small amounts of EPA financial assistance.

C. Due Date and Award Schedule

An original proposal signed by an authorized representative of the state, plus one copy must be mailed to EPA postmarked no later than September 11, 2000. This is not a competitive program, therefore all viable proposals received from states by the postmarked dates will be reviewed and considered for award. EPA expects to announce the awards by October 1, 2000. Applicants should anticipate project start dates beginning October 2000.

D. Funding Limits Per Proposal

The total funding for this program is approximately $700,000. If all fifty (50) states, and the District of Columbia apply for assistance the total amount of funding potentially available to each state is approximately $14,000. This amount of funding is contingent upon a number of factors, such as whether the state has an existing program to identify high environmental performers or whether a state anticipates a large number of facilities that will apply to become a part of the program, or whether there is no existing state program but one will be initiated. The specific funding scenarios are fully described in Section III, Funding.

Section II—Eligible Applicants and Activities

E. Eligible Applicants

Entities eligible to receive funding from the Environmental Protection Agency under this proposed program are the fifty (50) states of the United States of America and the District of Columbia. States are invited to participate regardless of their previous level of experience with evaluating, assessing, and recognizing facilities with higher than minimal environmental performance.

F. Multiple or Repeat Proposals

It is not necessary for any eligible state entity to provide multiple or repeat proposals. No state will be awarded more than one cooperative agreement for the same project during the same fiscal year. The one cooperative agreement that is awarded will encompass all the programmatic activities and elements. EPA does not generally sustain projects beyond the initial award period.

G. Eligible Activities

This program is geared toward providing money to advance and enhance existing state environmental performance track programs, support new state environmental performance track program efforts, increase knowledge about the effectiveness of performance based programs. Activities to be funded in this solicitation include:

1. Studies and investigations of state environmental policies, rules, and regulations affected by incentives proposed in the Performance Track program. This task will involve analysis and coordination of state “co-regulation” efforts in light of the proposed consolidated rulemaking put forward by the US EPA, and identification of all state policies, rules, and regulations which may need to be revised to make them consistent with the proposed changes at the national level.

2. Evaluation of existing state performance track programs. Program evaluation involves verifying that the goals of voluntary performance track programs have been achieved. The goals of state performance track programs may include:

• Public recognition of facilities that have been chosen to participate;

• Continuous improvement in environmental performance by participating facilities, including achievement of performance targets set by the participants for themselves;

• Effective use of program incentives by participants;

• Motivation of participating facilities to improve environmental performance; and

• Reduction of the environmental impact of participating facilities.

Evaluation also may include assessment of participants' Environmental Management Systems, performance tracking systems, public outreach, or other program elements.

The evaluation process will require occasional travel for on-sites to the facilities chosen for this review. Travel costs incurred by state employees can be reimbursed under this cooperative agreement to the extent allowable under Office of Management and Budget (OMB) Circular A-87.

EPA plans to hold training covering key components of the National Environmental Performance Track (e.g., Environmental Management Systems, pollution prevention, performance measurement). This training may be appropriate for State representative participation. Travel costs incurred by state employees participating in this training can be reimbursed to the extent allowable under OMB Circular A-87.

3. Analysis and dissemination of performance data. States will collect environmental performance data published by program participants for the purpose of assessing program impact, and for aggregating and sharing data, where appropriate, with the public. These data can be used for public education on the environmental improvement measured as a result of this program, as well as sharing performance information with other potential candidates for the state's program.

H. EPA's Anticipated Substantial Involvement

EPA anticipates that it will be substantially involved with state recipients in the following four aspects of their work:

1. EPA is reviewing federal regulations and policies and will propose changes that implement the incentives outlined in the National Environmental Performance Track program description. EPA will hold discussions with states to explain these changes.

2. EPA will share with states EPA's experience with federal voluntary programs. EPA will also communicate with states regarding the implementation status of the National Environmental Performance Track program on an ongoing basis.

3. EPA will exchange program information with states that have existing performance track-type programs or programs under development. EPA will work with states to analyze the similarities and differences between the federal and state programs and ultimately to develop a worksheet that states and industry can use in determining appropriate program participation by specific facilities or companies.

4. EPA will make available to state employees training on aspects of the National Environmental Performance Track, including environmental management systems.

EPA's involvement in these aspects is intended primarily to facilitate state work under the tasks indicated in their work plans, but also to increase information-sharing and consistency among co-regulators.

I. Ineligible Activities

All proposals must focus on activities that are state initiated, and that advance state goals (e.g., furthering the state environmental performance track program). All training must be for the purpose of allowing and facilitating the states to better execute their responsibilities. All analysis and data collected by the states as a part of this cooperative agreement must be primarily for the purpose of providing information on state facilities and their environmental performance under the state's program.

EPA cooperative agreement funds must not be used for:

1. Revising State policies, rules, and regulations solely to implement the National Environmental Performance Track

2. Establishing “membership” in the National Environmental Performance Track

3. Conduct compliance screening for National Environmental Performance Track applicants.

4. Any activity that is unallowable under OMB Circular A-87.

Section III—Funding

J. Funding

EPA has approximately $700,000 to support this Notice of Funds Availability. This is not a competitive selection process and EPA plans to support all state proposals that meet the criteria for funding. Although the amount of money available is fixed, it is uncertain how many states will apply for funding, therefore the actual award amounts are not known. If all 50 states plus the District of Columbia applied for funding and were accepted, each cooperative agreement would be for approximately $14,000. However, EPA does not expect all 50 states to apply for funding in response to this Notice.

Proposals may ask for an award up to a total of $20,000. For this level of funding, the proposal is expected to address each of the three eligible tasks (discussed in detail above):

1. Studies and investigations of state policies, rules and regulations affected by incentives proposed in the National Environmental Performance Track Program.

2. Evaluation of performance track programs that recognize and reward top environmental performers.

3. Analysis and dissemination of performance data.

For States that choose not to addresses each task, proposals may focus on a single activity at a $12,000 expected level of funding or two tasks at an expected funding level of $15,000.

Section IV—Requirements for Proposals

K. Requirements for Proposals

The anticipated dollar value of each cooperative agreement to a particular state is expected to be under $100,000 so the EPA “small grant” procedures may be followed. The Environmental Protection Agency Application Kit for Federal Assistance (pg. 15) outlines requirements for proposals which are listed below. Cooperative Agreement proposals must include:

• Application for Federal Assistance (SF 424) with original signatures including:

—SF-424A, budget by categories and indirect cost rate

—SF 424B, Assurances for non-construction programs

• Number of Copies: Original and 1 copy

• Debarment and Suspension Certification

• EPA Form 4700-4 Pre-Award Compliance Review Report

• Abbreviated Work Plan and Resume:

The narrative work plan should not exceed five (5) pages in length. The work plan must include a summary of specific objectives, expected outcomes and deliverables; and discussion of the budget and how the budget relates to the objectives. Provide an overview of your project that explains the concept and your goals and objectives. List the types of activities for which EPA funds will be spent. Under project evaluation explain how you will ensure the goals and objectives are met. Evaluation plans may be quantitative and/or qualitative and may include, for example, surveys, observation, or outside consultation. (See section VI). Resumes of the applicants and/or individuals performing this grant should not exceed an additional two (2) pages.

• Key Contact List

• Application Receipt Letter, with your address filled in.

L. Submission Requirements and Copies

“One page” refers to one side of a single spaced typed page. The pages must be letter sized (8½ × 11 inches) with margins at least an inch wide and with normal type size (10 or 12 point) rather than extremely small type. To conserve paper, please provide double-sided copies of the proposal. Do not include other attachments such as cover letters, tables of contents, or appendices other than resumes and letters of commitment. The SF-424 should be the first page of your proposal and must be signed by a person authorized to receive funds. Blue ink for signatures is preferred. Proposals must be reproducible; they should not be bound. They should be stapled or clipped once in the upper left hand corner, on white paper, and with page numbers. Mailing addresses are listed at the end of this document.

Section V—Evaluation and Award Criteria

M. Evaluation and Award Criteria

Proposals will be reviewed and assessed based on their articulation of the criteria defined in Sections IV and V of this solicitation. In addition the Agency will consider:

1. Previous efforts completed or underway that are consistent with the goals of the National Environmental Performance Track, and

2. Proposed state efforts in support of the goals of the National Performance Track.

This is purely a voluntary program, with an anticipation that all 50 states, and the District of Columbia could provide proposals. To that extent there is no competition in the usual sense. Any and all states that provide a proposal will be considered for an award. The amount of the award will be contingent on the number of tasks included in the proposal (as previously described).

N. Award Process

All proposals submitted by states will be evaluated by an EPA panel consisting of technical, legal, and administrative personnel substantially involved with the National Performance Track Program. States may be asked to modify proposals as a result of this review. As mentioned previously, it is the intention to award cooperative agreement funding to any state that submits a viable proposal that meets the requirements of this NOFA.

Section VI—Proposals

O. Work Plans

All work plans must adhere to the “small grant” limit of five pages. EPA will accept these short proposals and negotiate specific work plans after the award is made. Please assure that proposals are complete and contain sufficient detail to facilitate panel review and consideration.

Section VII—Recipient Responsibilities

All projects must be performed by the applicant or by a person satisfactory to the applicant and EPA, and whose qualifications have been reviewed and approved by EPA. All proposals must identify any person other than the applicant who will assist in carrying out the project. The state remains responsible for ensuring that all cooperative agreement conditions are satisfied, and for the successful completion of the project.

Recipients may begin incurring costs on the start date identified in the EPA award agreement. Activities must be completed and funds spent within the time frames specified in the award agreement.

Specific reporting requirements will be identified in the EPA award agreement. Recipients will be required to submit semi-annual progress reports. Cooperative agreement recipients will submit two copies of their final report and two copies of all work products to the EPA Project Officer within ninety (90) days after the expiration of the budget period. This report will be accepted as the final report provided it is complete.

Section VIII—Other Information

The Office of Management and Budget (OMB) has approved the information collection requirements contained in this solicitation under the provisions of the Paperwork Reduction Act , 44 U.S.C. 3501 et. seq. and has assigned OMB control number 2030-0020.

P. Statutory Authority

EPA statutory authority for awarding financial assistance under this Notice of Funds Availability include section 103 of the Clean Air Act, section 104, of the Clean Water Act, section 8001 of the Solid Waste Disposal Act, section 10 of the Toxic Substances Control Act, and section 20 of Federal Insecticide, Fungicide, and Rodenticide Act.

Section IX—How To Apply

An original and one copy of the proposal should be mailed to EPA headquarters in Washington, D.C. at the following address: Julie C. Taitt, Administration and Budget Management Team, U.S. E.P.A. Office of Policy, Economics, and Innovation, 401 M. St., S.W. (MC 1803), Washington, D.C. 20460, (202) 260-9230.

Section X—OPEI Programs Contact

For Technical Assistance Contact:

Dan Fiorino (202) 260-2749

Chuck Kent (202) 260-2462

Ken Munis (202) 260-9560

For Administrative Assistance Contact: Julie C. Taitt, 401 M. St., S.W. (MC 1803), Washington, D.C. 20460, (202) 260-9230.

Dated: August 22, 2000.
Charles W. Kent,
Associate Director for the Office of Business and Community Innovation.

[FR Doc. 00-21915 Filed 8-25-00; 8:45 am]

BILLING CODE 6560-50-P